DEPARTMENT OF HEALTH AND HUMAN SERVICES

National Institutes of Health

National Institute of Biomedical Imaging and Bioengineering; Amended Notice of Meeting

Notice is hereby given of a change in the meeting of the National Institute of Biomedical Imaging and Bioengineering Special Emphasis Panel, December 11, 2013, 08:30 a.m., National Institutes of Health, Two Democracy Plaza, Suite 951, 6707 Democracy Boulevard, Bethesda, MD 20892, which was published in the Federal Register on August 29, 2013, 78 FR 64506.

The meeting notice is amended to change the date and time from December 11, 2013, 08:30 a.m.-05:00 p.m., to January 9, 2014, 08:00 a.m.-08:00 p.m. The meeting is closed to the public.

Dated: December 20, 2013.
David Clary,
Program Analyst, Office of Federal Advisory Committee Policy.

[FR Doc. 2013-30892 Filed 12-26-13; 8:45 am]

BILLING CODE 4140-01-P